DEPARTMENT OF HOMELAND SECURITY

Federal Emergency Management Agency

44 CFR Part 67

Final Flood Elevation Determinations

AGENCY: Federal Emergency Management Agency (FEMA), Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, FEMA, 500 C Street, SW., Washington, DC 20472, (202) 646-2903.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of Flooding and Location | #Depth in feet above ground. *Elevation in feet (NGVD) •Elevation in feet (NAVD)
NEW HAMPSHIRE
Cheshire County (FEMA Docket No. D-7636)
Connecticut River:
Approximately 1.2 miles downstream of Boston and Maine Railroad | •229
At the upstream county boundary | •301
Towns of Hinsdale, Chesterfield, Walpole, and Westmoreland
Sprague Brook:
At the confluence with Connecticut River | •227
Approximately 5 feet downstream of State Route 19 | •227
Town of Hinsdale
Blaneherd Brook:
At the confluence with Connecticut River | •253
Approximately 200 feet upstream of State Route 12 and 123 | •253
Town of Walpole
Ashuelot River:
At the downstream Town of Sullivan corporate limit, approximately 1,480 feet downstream of State Route 10 | •846
At the upstream Town of Sullivan corporate limits, approximately 145 feet downstream of State Route 10 | •862
Town of Sullivan
Town of Chesterfield
Maps available for inspection at the Town of Chesterfield Selectmen's Office, 504 Route 63, Chesterfield, New Hampshire.
Town of Hinsdale
Maps available for inspection at the Hinsdale Town Hall, 11 Main Street, Hinsdale, New Hampshire.
Town of Sullivan
Maps available for inspection at the Town of Sullivan Selectmen's Office, 452 Centre Street, Sullivan, New Hampshire.
Town of Walpole
Maps available for inspection at the Walpole Town Hall, 34 Elm Street, Walpole, New Hampshire.
Town of Westmoreland
Maps available for inspection at the Town of Westmoreland Selectmen's Office, 780 Route 63, Westmoreland, New Hampshire.
———
Sullivan County (FEMA Docket No. D-7636)
Connecticut River:
Approximately 0.5 mile upstream of the downstream County boundary | •300
At County boundary | •344
Towns of Charlestown, Cornish, Plainfield, and City of Claremont
Beaver Brook No. 1:
At the confluence with Connecticut River | •308
Approximately 1.3 miles upstream of the confluence | •308
Town of Charlestown
Little Sugar River:
At the confluence with Connecticut River | •310
Approximately 1,625 feet upstream of the confluence with Connecticut River | •310
Town of Charlestown
Ox Brook:
At the confluence with Connecticut River | •311
Approximately 1,420 feet upstream of the confluence | •311
Town of Charlestown
Blow-Me-Down Brook:
At the confluence with Connecticut River | •330
Approximately 1.2 miles upstream of the confluence | •320
Town of Cornish
Sugar River:
At the confluence with Connecticut River | •320
Approximately 1.2 miles upstream of the confluence with Connecticut River | •320
City of Claremont
North Branch Sugar River:
Approximately 540 feet downstream of corporate limits | •514
Approximately 60 feet downstream of corporate limits | •515
Town of Croydon
Town of Charlestown
Maps available for inspection at the Charlestown Town Hall, 26 Railroad Street, Charlestown, New Hampshire.
City of Claremont
Maps available for inspection at the City of Claremont Planning and Development Office, 14 North Street, Claremont, New Hampshire.
Town of Cornish
Maps available for inspection at the Cornish Town Offices, 488 Townhouse Road, Cornish, New Hampshire.
Town of Croydon
Maps available for inspection at the Croydon Town Office, 879 New Hampshire Route 10, Croydon, New Hampshire.
NORTH CAROLINA
New Hanover County (FEMA Docket No. D-7622)
Burnt Mill Creek:
Approximately 500 feet upstream of railroad | •9
Approximately 1,425 feet upstream of Varsity Drive | •37
City of Wilmington
Mott Creek:
Just upstream of South College Road | •22
Approximately 0.2 mile upstream of Lone Eagle Court | •27
New Hanover County (Unincorporated Areas)
Mott Creek Tributary 1:
At the confluence with Mott Creek | •13
Approximately 300 feet downstream of Carolina Beach Road | •15
New Hanover County (Unincorporated Areas)
Smith Creek:
Approximately 1,225 feet downstream of the confluence of Kings Grant Tributary | •9
Approximately 300 feet upstream of Dove Field Road | •38
New Hanover County (Unincorporated Areas)
Spring Branch:
Approximately 0.3 mile upstream of North Kerr Avenue | •8
Approximately 0.4 mile upstream of Martin Luther King Jr. Parkway | •31
New Hanover County (Unincorporated Areas), City of Wilmington
Bradley Creek Tributary 1:
Approximately 60 feet upstream of Eastwood Road | •18
Approximately 0.2 mile upstream of Eastwood Road | •18
City of Wilmington
Island Creek:
Just downstream of Sidbury Road | •19
Approximately 1.2 miles upstream of Sidbury Road | •24
New Hanover County (Unincorporated Areas)
Prince George Creek Tributary 3:
Approximately 500 feet upstream of the confluence with Prince George Creek | •21
Approximately 0.6 mile upstream of Sidbury Road | •34
New Hanover County (Unincorporated Areas)
Murrayville Tributary:
Approximately 0.2 mile upstream of Murrayville Road | •26
Approximately 1.0 mile upstream of North College Road | •36
New Hanover County (Unincorporated Areas)
Ness Creek:
Approximately 2.0 miles upstream of the confluence with Northeast Cape Fear River | •8
Approximately 1,900 feet upstream of Todd Avenue | •32
New Hanover County (Unincorporated Areas)
Ness Creek Tributary 2:
At the confluence with Ness Creek | •26
Just upstream of Caladan Road | •31
New Hanover County (Unincorporated Areas)
Prince George Creek:
Just upstream of Castle Hayne Road | •10
Just downstream of Sidbury Road | •28
New Hanover County (Unincorporated Areas)
Pumkin Creek:
Approximately 500 feet upstream of the confluence with Prince George Creek | •14
Approximately 50 feet upstream of Juvenile Center Road | •31
New Hanover County (Unincorporated Areas)
Wildcat Branch:
Approximately 0.5 mile upstream of the confluence with Northeast Cape Fear River Tributary 2 | •9
Just upstream of Blue Clay Road | •27
New Hanover County (Unincorporated Areas)
Atlantic Ocean/Intracoastal Waterway:
Approximately 750 feet northeast of the intersection of U.S. Route 421 North Lake Park Boulevard and Spencer Farlow Drive | •10
Approximately 1,000 feet south of the intersection of Jack Parker Boulevard and South Lumina Avenue | •19
New Hanover County (Unincorporated Areas), Town of Carolina Beach, Town of Kure Beach, City of Wilmington, Town of Wrightsville Beach
Cape Fear River:
Approximately 0.6 mile upstream of the New Hanover/Pender/Brunswick County boundary | •8
At the New Hanover/Pender/Brunswick County boundary | •9
New Hanover County (Unincorporated Areas)
Town of Carolina Beach
Maps available for inspection at the Carolina Beach Town Hall, Planning Department, 1121 North Lake Park Boulevard, Carolina Beach, North Carolina.
Town of Kure Beach
Maps available for inspection at the Kure Beach Town Hall, 117 Settlers Lane, Kure Beach, North Carolina.
New Hanover County (Unincorporated Areas)
Maps available for inspection at the New Hanover County Inspections Department, Market Place Mall, 230 Market Place Drive, Suite 110, Wilmington, North Carolina.
City of Wilmington
Maps available for inspection at the Wilmington City Hall, Zoning Department, 102 North 3rd Street, Wilmington, North Carolina.
Town of Wrightsville Beach:
Maps available for inspection at the Wrightsville Beach Town Hall, Planning Department, 321 Causeway Drive, Wrightsville Beach, North Carolina.
———
Wake County (FEMA Docket No. D-7622)
Adams Branch:
At Corwin Road | •276
Approximately 800 feet upstream of Corwin Road | •280
Town of Garner
Armory Tributary:
Approximately 0.5 mile upstream of confluence with Richland Creek (Basin 18, Stream 13) | •366
Approximately 0.7 mile upstream of confluence with Richland Creek (Basin 18, Stream 13) | •377
Wake County (Unincorporated Areas), City of Raleigh
Basal Creek:
At the confluence with Richland Creek (Basin 5, Stream 1) | •273
Approximately 250 feet upstream of St. Catherines Drive | •309
Wake County (Unincorporated Areas), Town of Wake Forest
Basin 10, Stream 2:
At the confluence with Little River (Basin 10, Stream 1) | •219
At Morphus Bridge Road | •219
Wake County (Unincorporated Areas)
Basin 10, Stream 5:
At the confluence with Little River (Basin 10, Stream 1) | •243
Approximately 0.6 mile upstream of Lizard Lick Road | •291
Wake County (Unincorporated Areas)
Basin 10, Stream 6:
At Lizard Lick Road | •252
Approximately 280 feet upstream of Edgemont Road | •339
Wake County (Unincorporated Areas)
Basin 10, Stream 9:
At the confluence with Little River (Basin 10, Stream 1) | •254
At State Highway 96 | •289
Wake County (Unincorporated Areas)
Basin 10, Stream 10:
At the confluence with Little River (Basin 10, Stream 1) | •257
Approximately 250 feet upstream of Fowler Road | •258
Wake County (Unincorporated Areas)
Basin 10, Stream 13:
At the confluence with Basin 10, Stream 14 | •277
Approximately 1.7 miles upstream of the confluence with Basin 10, Stream 14 | •344
Wake County (Unincorporated Areas)
Basin 10, Stream 14:
Approximately 0.4 mile upstream of the confluence with Little River (Basin 10, Stream 1) | •267
At Franklin/Wake County boundary | •306
Wake County (Unincorporated Areas)
Basin 11, Stream 4:
At U.S. Highway 64 | •240
Approximately 700 feet upstream of Ferrell Road | •341
Wake County (Unincorporated Areas)
Basin 11, Stream 7:
At Wake/Johnston County boundary | •278
Approximately 0.4 mile upstream of the Wake/Johnston County boundary | •308
Wake County (Unincorporated Areas)
Basin 12, Stream 3:
At Old Crews Road | •244
Approximately 0.4 mile upstream of Horton Road | •293
Town of Knightdale, Wake County (Unincorporated Areas)
Basin 14, Stream 2:
Confluence with Marks Creek (Basin 14, Stream 1) | •183
Approximately 0.4 mile upstream of Lake Myra Road | •225
Wake County (Unincorporated Areas)
Basin 14, Stream 3:
At the confluence with Marks Creek (Basin 14, Stream 1) | •202
Approximately 0.4 mile upstream of Presentation Street | •244
Wake County (Unincorporated Areas)
Basin 18, Stream 13:
Upstream side of Sorrell Grove Church Road | •290
At the Wake/Durham County boundary | •320
Town of Morrisville, Wake County (Unincorporated Areas)
Basin 18, Stream 13 Tributary:
At the confluence with Basin 18, Stream 13 | •318
Approximately 0.6 mile upstream of the confluence with Basin 18, Stream 13 | •318
Wake County (Unincorporated Areas), Town of Morrisville
Basin 18, Stream 4:
Approximately 150 feet upstream of Grove Barton Road | •318
Approximately 0.2 mile upstream of Country Trail | •400
Wake County (Unincorporated Areas), City of Raleigh
Basin 18, Stream 7:
At the confluence with Sycamore Creek (Basin 18, Stream 6) | •324
Approximately 0.5 mile upstream of the confluence with Sycamore Creek (Basin 18, Stream 6) | •343
City of Raleigh
Basin 20, Stream 5:
Approximately 0.5 mile upstream of confluence with Swift Creek | •202
Approximately 1.7 miles upstream of confluence with Swift Creek | •257
Wake County (Unincorporated Areas)
Basin 23, Stream 2:
At the confluence with Black Creek (Basin 23, Stream 1) | •234
Approximately 1.0 mile upstream of John Adams Road | •320
Wake County (Unincorporated Areas)
Basin 23, Stream 2 Tributary:
At confluence with Basin 23, Stream 2 | •239
Approximately 175 feet upstream of John Adams Road | •248
Wake County (Unincorporated Areas)
Basin 23, Stream 3:
At the confluence with Black Creek | •283
Approximately 0.9 mile upstream of Maude Stewart Road | •360
Wake County (Unincorporated Areas), Town of Fuquay-Varina
Basin 23, Stream 4:
At confluence with Basin 23, Stream 3 | •292
Approximately 1,775 feet upstream of Eddie Howard Road | •352
Wake County (Unincorporated Areas)
Basin 23, Stream 5:
At the confluence with Black Creek | •301
Approximately 0.9 mile upstream of confluence with Black Creek | •331
Wake County (Unincorporated Areas), Town of Fuquay-Varina
Beaverdam Creek (Basin 11, Stream 3):
Approximately 0.7 mile upstream of Pearces Road | •319
Approximately 320 feet upstream of Pippin Road | •330
Wake County (Unincorporated Areas)
Beaverdam Creek (Basin 12, Stream 1):
At Old Crews Road | •231
Approximately 0.2 mile upstream of Lucas Road | •296
Wake County (Unincorporated Areas)
Beaverdam Creek (Basin 18, Stream 28):
Approximately 650 feet upstream of Scotland Street | •221
At the upstream side of Glenwood Avenue | •247
City of Raleigh
Beaverdam Creek (Basin 15, Stream 21):
At Kyle Drive | •235
Approximately 450 feet upstream of U.S. Highway 401 | •244
City of Raleigh
Beddingfield Creek:
Approximately 250 feet upstream of Shotwell Road | •164
Approximately 625 feet upstream of Shotwell Road | •166
Wake County (Unincorporated Areas)
Big Branch (Basin 10, Stream 8):
At the confluence with Little River | •254
Approximately 0.3 mile upstream of Zebulon Road | •288
Wake County (Unincorporated Areas)
Big Branch (Basin 18, Stream 21):
Approximately 250 feet upstream of Chaswick Drive | •215
Approximately 0.3 mile upstream of East Millbrook Road | •315
City of Raleigh
Big Branch (Basin 30, Stream 2):
At the confluence with Walnut Creek (Basin 30, Stream 1) | •180
Approximately 0.4 mile downstream of Auburn Church Road | •242
City of Raleigh, Wake County (Unincorporated Areas), Town of Garner
Big Branch Tributary No. 1 (Basin 30, Stream 6):
Approximately 950 feet upstream of the confluence with Big Branch (Basin 30, Stream 2) | •185
Approximately 0.5 mile upstream of Interstate 40 | •217
City of Raleigh, Wake County (Unincorporated Areas), Town of Garner
Big Branch Tributary No. 3:
At the confluence with Big Branch Tributary No. 1 (Basin 30, Stream 6) | •197
Approximately 0.3 mile upstream of Interstate 40 | •222
City of Raleigh, Wake County (Unincorporated Areas), Town of Garner
Black Creek (Basin 23, Stream 1):
At Johnston County boundary | •213
Approximately 1.0 mile upstream of confluence of Basin 23, Stream 5 | •325
Wake County (Unincorporated Areas), Town of Fuquay-Varina
Bridges Branch:
Approximately 0.2 mile upstream of Barksdale Drive | •205
Approximately 0.3 mile upstream of Barksdale Drive | •208
City of Raleigh
Brier Creek (Basin 18, Stream 14):
Approximately 0.6 mile upstream of the confluence with Stirrup Iron Creek (Basin 18, Stream 12) | •284
Approximately 0.7 mile upstream of Nelson Road | •329
Town of Cary, Wake County (Unincorporated Areas)
Buffalo Creek (Basin 9, Stream 1):
At Robertsons Pond Dam | •291
Approximately 0.8 mile upstream of Fowler Road | •399
Wake County (Unincorporated Areas)
Cedar Fork (Basin 10, Stream 15):
At the confluence with Little River (Basin 10, Stream 1) | •287
Approximately 3.4 miles upstream of the confluence with Little River (Basin 10, Stream 1) | •360
Wake County (Unincorporated Areas), Town of Rolesville
Coles Branch (Basin 18, Stream 24):
Approximately 0.2 mile upstream of Cary Parkway | •335
Approximately 850 feet upstream of Maynard Road | •369
Town of Cary, Wake County (Unincorporated Areas)
Crabtree Creek (Basin 18, Stream 9):
At Ebenezer Church Road | •253
Approximately 1.5 miles upstream of Reedy Creek Road | •258
City of Raleigh
Crabtree Creek Tributary No. 6 (Basin 18, Stream 20):
Approximately 0.3 mile downstream of Weston Parkway | •311
Approximately 500 feet upstream of Weston Parkway | •337
Town of Cary, Wake County (Unincorporated Areas)
Dutchmans Branch (Basin 20, Stream 17):
At the confluence with Swift Creek (Basin 20, Stream 1) (Lake Wheeler) | •289
At the downstream side of Blaney Franks Road | •289
Wake County (Unincorporated Areas)
Fowlers Mill Creek (Basin 10, Stream 12):
Approximately 0.2 mile upstream of the confluence with Little River (Basin 10, Stream 1) | •266
Approximately 1.4 miles upstream of Pullytown Road | •313
Wake County (Unincorporated Areas)
Guffy Branch (Basin 21, Stream 4):
At the confluence with Little Creek (Basin 21, Stream 1) | •231
Approximately 4.3 miles above the confluence with Little Creek (Basin 21, Stream 1) | •355
Wake County (Unincorporated Areas)
Hatchet Grove Tributary (Basin 18, Stream 25):
Approximately 350 feet downstream of Hatchet Grove Dam Tributary | •314
Approximately 0.7 mile upstream of Hatchet Grove Dam Tributary | •338
Town of Cary, Wake County (Unincorporated Areas)
Hodges Creek (Basin 8, Stream 1):
Approximately 0.2 mile upstream of Old Crews Road | •222
Approximately 1.4 miles upstream of R. C. Watson Road | •337
Wake County (Unincorporated Areas)
Hominy Creek (Basin 10, Stream 7):
At Lizard Lick Road | •253
Approximately 0.3 mile upstream of Hodge Road | •337
Wake County (Unincorporated Areas)
Horse Creek (Basin 4, Stream 1):
Approximately 0.3 mile downstream of Wake/Franklin County boundary | •337
At the Wake/Franklin County boundary | •342
Wake County (Unincorporated Areas)
Juniper Branch (Basin 21, Stream 2):
At the confluence with Little Creek (Basin 21, Stream 1) | •261
Approximately 0.8 mile upstream of Pagan Road | •327
Wake County (Unincorporated Areas)
Lakemont Tributary (Basin 18, Stream 22):
At the confluence with Big Branch (Basin 18, Stream 21) | •254
Approximately 250 feet downstream of Pinecroft Drive | •313
City of Raleigh
Ledge Creek:
At the confluence with Falls Lake | •262
At the Wake/Granville County boundary | •262
Wake County (Unincorporated Areas)
Lens Branch (Basin 20, Stream 22):
At the confluence with Swift Creek (Basin 20, Stream 1) | •312
Approximately 500 feet downstream of Lochmere Drive | •313
Town of Cary, Wake County (Unincorporated Areas)
Little Beaverdam Lake:
Entire shoreline | •262
Wake County (Unincorporated Areas)
Little Beaverdam Creek (Basin 2, Stream 2):
Just upstream of the confluence with Little Beaverdam Lake | •262
Approximately 0.7 mile downstream of the Wake/Granville County boundary | •297
Wake County (Unincorporated Areas)
Little Black Creek (Basin 23, Stream 8):
At Johnston County boundary | •228
Approximately 0.6 mile upstream of Walter Myatt Road | •300
Wake County (Unincorporated Areas)
Little Brier Creek (Basin 18, Stream 15):
At the confluence with Brier Creek (Basin 18, Stream 14) | •322
At the downstream side of Lumley Road | •322
City of Raleigh
(Basin 18, Stream 16):
Just downstream of Interstate 70 | •347
Approximately 300 feet upstream of the Wake County/Durham County boundary | •388
City of Raleigh, Wake County (Unincorporated Areas)
Little Creek (Basin 11, Stream 2):
At Cemetery Road | •278
Approximately 0.3 mile upstream of U.S. 64 | •312
Town of Zebulon, Wake County (Unincorporated Areas)
Little Creek (Basin 21, Stream 1):
At the Wake County/Johnston County boundary | •220
Approximately 2.3 miles upstream of the confluence of Juniper Branch | •335
Wake County (Unincorporated Areas)
Little River (Basin 10, Stream 1):
At Johnston/Wake County boundary | •216
At Franklin/Wake County boundary | •325
Wake County (Unincorporated Areas), Town of Wendell, Town of Zebulon
Lizard Lick Creek (Basin 10, Stream 23):
At the confluence with Little River (Basin 10, Stream 1) | •222
At Wendell Boulevard | •226
Town of Wendell, Wake County (Unincorporated Areas)
Marks Creek (Basin 14, Stream 1):
Approximately 325 feet downstream of Wake/Johnston County boundary | •176
Approximately 0.8 mile downstream of Knightdale Eaglerock Road | •208
Wake County (Unincorporated Areas)
Marsh Creek (Basin 18, Stream 17):
At Skycrest Drive | •203
Approximately 650 feet downstream of Falls Church Road | •315
City of Raleigh, Wake County (Unincorporated Areas)
Millbrook Tributary to Marsh Creek (Basin 18, Stream 19):
Approximately 50 feet upstream of confluence with Marsh Creek (Basin 18, Stream 17) | •237
At Brockton Drive | •240
City of Raleigh, Wake County (Unincorporated Areas)
Mills Branch (Basin 22, Stream 5):
Approximately 50 feet upstream of railroad | •274
Approximately 0.7 mile upstream of railroad | •301
Wake County (Unincorporated Areas)
Mingo Creek (Basin 12, Stream 2):
At the confluence with Beaverdam Creek (Basin 12, Stream 1) | •206
At Smithfield Road | •272
Town of Knightdale, Wake County (Unincorporated Areas)
Moccasin Creek (Basin 11, Stream 1):
Approximately 380 feet downstream of U.S. 264 | •211
Approximately 0.7 mile upstream of Henry Baker Road | •307
Wake County (Unincorporated Areas)
New Hope Tributary to Marsh Creek (Basin 18, Stream 18):
Approximately 1,150 feet upstream of the confluence with Marsh Creek | •215
Approximately 150 feet upstream of Calvary Drive | •293
City of Raleigh
Newlight Creek (Basin 3, Stream 1):
Approximately 450 feet upstream of the confluence of Basin 3, Stream 8 | •280
At the Wake County/Granville County boundary | •283
Wake County (Unincorporated Areas)
Northeast Tributary to Turkey Creek (Basin 18, Stream 4):
Approximately 100 feet upstream of Grove Barton Road | •318
Approximately 0.3 mile upstream of County Trail | •400
City of Raleigh, Wake County (Unincorporated Areas)
Perry Creek (Basin 10, Stream 19):
At the confluence with Little River (Basin 10, Stream 1) | •318
Approximately 325 feet downstream of Old Pearce Road | •381
Wake County (Unincorporated Areas)
Perry Creek (Basin 15, Stream 26):
Approximately 225 feet downstream of the confluence with Perry Creek East Branch | •197
Approximately 0.8 mile upstream of Rainwater Drive | •355
City of Raleigh, Wake County (Unincorporated Areas)
Perry Creek East Branch (Basin 15, Stream 27):
At the confluence with Perry Creek (Basin 15, Stream 26) | •197
Approximately 650 feet upstream of the confluence with Perry Creek (Basin 15, Stream 26) | •197
City of Raleigh, Wake County (Unincorporated Areas)
Richland Creek (Basin 5, Stream 1):
Approximately 1,050 feet downstream of New Falls of the Neuse Road | •205
At the Wake/Franklin County boundary | •301
City of Raleigh, Wake County (Unincorporated Areas), Town of Wake Forest
Richland Creek Tributary:
At the confluence with Richland Creek (Basin 5, Stream 1) | •228
Approximately 1.2 miles upstream of the confluence with Richland Creek (Basin 5, Stream 1) | •311
Town of Wake Forest, Wake County (Unincorporated Areas)
Rocky Branch (Basin 30, Stream 5):
At the confluence with Walnut Creek (Basin 30, Stream 1) | •236
Approximately 200 feet downstream of Western Boulevard | •297
City of Raleigh
Snipes Creek:
Approximately 100 feet upstream of the confluence of Basin 11, Stream 7 | •278
Approximately 0.6 mile upstream of Highway 96 | •330
Wake County (Unincorporated Areas), Town of Zebulon
Swift Creek (Basin 20, Stream 1):
At Old Stage Road | •246
Approximately 700 feet upstream of U.S. Highway 64 | •359
Town of Cary, Wake County (Unincorporated Areas), Town of Garner
Swift Creek Tributary No. 7 (Basin 20, Stream 24):
At the confluence with Swift Creek (Basin 20, Stream 1) | •332
Approximately 0.3 mile upstream of the confluence with Swift Creek (Basin 20, Stream 1) | •332
Town of Cary, Wake County (Unincorporated Areas)
Sycamore Creek (Basin 18, Stream 6):
At confluence with Crabtree Creek (Basin 18, Stream 9) | •254
Approximately 1 mile upstream of Leesville Road | •450
City of Raleigh, Wake County (Unincorporated Areas)
Turkey Creek (Basin 18, Stream 5):
At the confluence with Sycamore Creek (Basin 18, Stream 6) | •254
Approximately 1.3 miles upstream of Ebenezer Church Road | •279
City of Raleigh, Wake County (Unincorporated Areas)
Unnamed Tributary (#1) to Swift Creek:
Approximately 425 feet downstream of Wake/Johnston County boundary | •216
Approximately 125 feet downstream of Wake/Johnston County boundary | •216
Wake County (Unincorporated Areas)
Walnut Creek (Basin 30, Stream 1):
Approximately 0.8 mile upstream of the confluence with Neuse River (Basin 15, Stream 1) | •173
Approximately 0.3 mile upstream of Maynard Road | •452
Town of Cary, Wake County (Unincorporated Areas), City of Raleigh
Buckhorn Creek:
Approximately 500 feet downstream of Cass Holt Road | •232
Approximately 0.45 mile upstream of Honeycutt Road | •444
Wake County (Unincorporated Areas)
Jim Branch:
At the confluence with Harris Reservoir | •232
Approximately 1.0 mile upstream of the confluence with Harris Reservoir | •252
Wake County (Unincorporated Areas)
Cary Branch:
At the confluence with Harris Reservoir | •232
Approximately 2.3 miles upstream of the confluence with Norris Branch | •326
Wake County (Unincorporated Areas), Town of Holly Springs
Harris Reservoir:
Entire shoreline within Wake County | •232
Wake County (Unincorporated Areas), Town of Holly Springs
Norris Branch:
At the confluence with Cary Creek | •239
Approximately 500 feet upstream of Avent Ferry Road | •276
Wake County (Unincorporated Areas)
Utley Creek:
At the confluence with White Oak Creek (Basin 26, Stream 1) | •232
Approximately 3.3 miles upstream of the confluence with White Oak Creek | •329
Wake County (Unincorporated Areas), Town of Holly Springs
White Oak Creek (Basin 26, Stream 1):
At the confluence of Harris Reservoir | •232
Approximately 1,600 feet upstream of Highway 1 | •311
Wake County (Unincorporated Areas), Town of Holly Springs
Big Branch (Basin 26, Stream 5):
At the confluence with White Oak Creek | •248
Approximately 0.4 mile upstream of Highway 1 | •307
Wake County (Unincorporated Areas), Town of Holly Springs
Little Branch (Basin 26, Stream 3):
At the confluence with Big Branch (Basin 26, Stream 5) | •250
Approximately 1.7 miles upstream of New Hill Road | •310
Wake County (Unincorporated Areas), Town of Holly Springs
Little Branch Tributary (Basin 26, Stream 4):
At the confluence with Little Branch (Basin 26, Stream 3) | •265
Approximately 1.0 mile upstream of the confluence with Little Branch | •282
Wake County (Unincorporated Areas)
Little White Oak Creek (Basin 26, Stream 9):
At the confluence with Harris Reservoir
Approximately 0.8 mile upstream of Highway 1
Wake County (Unincorporated Areas)
Little White Oak Creek Tributary 2:
At the confluence with Little White Oak Creek (Basin 26, Stream 9) | •247
Approximately 900 feet upstream of the confluence with Little White Oak Creek (Basin 26, Stream 9) | •261
Wake County (Unincorporated Areas)
Thomas Creek:
At the confluence with Harris Reservoir | •232
Approximately 100 feet downstream of Highway 1 | •245
Wake County (Unincorporated Areas)
Big Branch:
At the confluence with Harris Reservoir | •232
Approximately 0.9 mile upstream of Highway 1 | •298
Wake County (Unincorporated Areas)
Little Beaver Creek (Basin 27, Stream 1):
Approximately 0.7 mile upstream of the Chatham/Wake County boundary | •239
Approximately 1.2 miles upstream of New Hill Olive Chapel Road | •284
Wake County (Unincorporated Areas)
Morris Branch:
At Chatham/Wake County boundary | •264
Approximately 750 feet upstream of Howard Road | •336
Wake County (Unincorporated Areas), Town of Cary
Kenneth Branch (Basin 24, Stream 6):
At railroad | •394
Approximately 1,750 feet upstream of railroad | •394
Wake County (Unincorporated Areas), Town of Fuquay-Varina
Angier Creek (Basin 24, Stream 4):
Just upstream of railroad | •368
Approximately 0.4 mile upstream of railroad | •378
Wake County (Unincorporated Areas), Town of Fuquay-Varina
Neills Creek:
At Harnett/Wake County boundary | •263
Approximately 1.3 miles upstream of Harnett/Wake County boundary | •300
Wake County (Unincorporated Areas)
Beaver Creek (Basin 27, Stream 2):
At the confluence with Jordan Lake | •238
Approximately 1,100 feet up stream of Castleburg Drive | •370
Wake County (Unincorporated Areas), Town of Apex
Jacks Branch (Basin 28, Stream 4):
At the confluence with White Oak Creek (Basin 28, Stream 1) | •273
Approximately 1.5 miles upstream of the confluence with White Oak Creek | •331
Wake County (Unincorporated Areas)
White Oak Creek (Basin 28, Stream 1):
At the Wake/Chatham County boundary | •238
Approximately 0.6 mile upstream of Park Village Drive | •369
Wake County (Unincorporated Areas), Town of Cary
Clark Branch (Basin 28, Stream 3):
At the confluence with White Oak Creek | •256
Approximately 0.5 mile upstream of Green Level Church Road | •302
Wake County (Unincorporated Areas)
Basin 28, Stream 8:
At the confluence with White Oak Creek | •262
Approximately 0.3 mile upstream of Hendricks Road | •303
Wake County (Unincorporated Areas), Town of Cary
Basin 28, Stream 7:
At the confluence with Basin 28, Stream 8 | •275
Approximately 0.4 mile upstream of the confluence with Basin 28, Stream 8 | •290
Town of Cary
Batchelor Branch (Basin 28, Stream 6):
At the confluence with White Oak Creek | •268
Approximately 1,000 feet upstream of State Route 55 | •356
Wake County (Unincorporated Areas), Town of Cary
Reedy Branch (Basin 27, Stream 5):
At the confluence with Beaver Creek (Basin 27, Stream 2) | •239
Approximately 0.4 mile upstream of the confluence with Reedy Branch Tributary (Basin 27, Stream 6) | •274
Wake County (Unincorporated Areas)
Reedy Branch Tributary (Basin 27, Stream 6):
Approximately 200 feet upstream of the confluence with Reedy Branch (Basin 27, Stream 5) | •266
Approximately 800 feet upstream of Kelly Road | •310
Wake County (Unincorporated Areas), Town of Apex
Kenneth Creek (Basin 24, Stream 2):
At the Harnett/Wake County boundary | •257
Approximately 0.4 mile upstream of the Harnett/Wake County boundary | •262
Town of Fuquay-Varina
Basin 20, Stream 20:
At the confluence with Swift Creek | •292
Approximately 475 feet upstream of the confluence with Swift Creek | •292
Wake County (Unincorporated Areas)
Kit Creek (Basin 29, Stream 7):
Just upstream of Louis Stevens Road | •259
Approximately 0.2 mile upstream of Davis Drive | •292
Wake County (Unincorporated Areas), Town of Morrisville
Kit Creek Tributary 1 (Basin 29, Stream 11):
At the confluence with Kit Creek (Basin 29, Stream 7) | •261
Approximately 0.3 mile upstream of Davis Drive | •284
Wake County (Unincorporated Areas)
Town of Apex
Maps available for inspection at the Town of Apex Engineering Department, 73 Hunter Street, Apex, North Carolina.
Town of Cary
Maps available for inspection at the Town of Cary Stormwater Services Department, 318 North Academy Street, Cary, North Carolina.
Town of Fuquay-Varina
Maps available for inspection at the Town of Fuquay-Varina Planning Department, 401 Old Honeycutt Road, Fuquay-Varina, North Carolina.
Town of Garner
Maps available for inspection at the Town of Garner Engineering Department, 900 7th Avenue, Building B, Garner, North Carolina.
Town of Holly Springs
Maps available for inspection at the Town of Holly Springs Engineering Department, 128 South Main Street, Holly Springs, North Carolina.
Town of Knightdale
Maps available for inspection at the Town of Knightdale Planning Department, 950 Steeple Square Court, Knightdale, North Carolina.
Town of Morrisville
Maps available for inspection at the Morrisville Town Hall, 100 Town Hall Drive, Morrisville, North Carolina.
City of Raleigh
Maps available for inspection at the City of Raleigh Planning Department, 222 West Hargett Street, 4th Floor, Raleigh, North Carolina.
Town of Rolesville
Maps available for inspection at the Rolesville Town Hall, 200 East Young Street, Rolesville, North Carolina.
Wake County (Unincorprated Areas
Maps available for inspection at the Wake County Office Building, Community Development Services Department, 336 Fayetteville Street Mall, 5th Floor, Raleigh, North Carolina.
Town of Wake Forest
Maps available for inspection at the Town of Wake Forest Planning Department, 401 Elm Avenue, Wake Forest, North Carolina.
Town of Wendell
Maps available for inspection at the Town of Wendell Planning Department, 15 East Fourth Street, Wendell, North Carolina.
Town of Zebulon
Maps available for inspection at the Town of Zebulon Planning Department, 100 North Arendell Avenue, Zebulon, North Carolina.
WEST VIRGINIA
Wyoming County (FEMA Docket No. D-7622)
Barkers Creek:
At the confluence with Guyandotte River | •1,395
Approximately 2.5 miles upstream of Milam Fork | •2,410
Clear Fork:
At the upstream Town of Oceana corporate limits | •1,291
Approximately 0.5 mile upstream of Koppers City Bottom Road 2 | •1,376
Wyoming County (Unincorporated Areas)
Gooney Otter Creek:
At the confluence with Barkers Creek | •1,654
Approximately 1.1 miles upstream of Noseman Branch | •1,929
Wyoming County (Unincorporated Areas)
Huff Creek:
At the Wyoming County boundary | •973
Approximately 10.5 miles upstream of county boundary | •1,530
Wyoming County (Unincorporated Areas)
Indian Creek:
At the confluence with the Guyandotte River | •1,137
Approximately 9.3 miles upstream of confluence with the Guyandotte River | •1,292
Wyoming County (Unincorporated Areas)
Laurel Fork:
Just 30 feet downstream of State Route 10 | •1,363
Approximately 0.5 mile upstream of Access Road | •1,847
Wyoming County (Unincorporated Areas)
Muzzle Creek:
At the confluence of Little Huff Creek | •1,078
Approximately 1.5 miles upstream of the confluence of Little Huff Creek | •1,177
Wyoming County (Unincorporated Areas)
Slab Fork:
Approximately 900 feet downstream of Caloric Road | •1,502
Approximately 2.1 miles upstream of Jesus Way Church Bridge | •1,651
Wyoming County (Unincorporated Areas)
Wyoming County (Unincorporated Areas)
Maps available for inspection at the Wyoming County Courthouse, Main Street, Pineville, West Virginia.

(Catalog of Federal Domestic Assistance No. 83.100, “Flood Insurance.”)
Dated: December 20, 2005.
David I. Maurstad,
Acting Director, Mitigation Division, Federal Emergency Management Agency, Department of Homeland Security.

[FR Doc. 06-1825 Filed 2-27-06; 8:45 am]

BILLING CODE 9110-12-P